DEPARTMENT OF TRANSPORTATION

Surface Transportation Board

[STB Finance Docket No. 34083]

CSX Transportation, Inc.—Trackage Rights Exemption—Canadian National Railway Company, Grand Trunk Western Railroad Incorporated, and St. Clair Tunnel Company

Canadian National Railway Company (CN) and its subsidiaries, Grand Trunk Western Railroad Incorporated (GTW) and St. Clair Tunnel Company (St. Clair), have agreed to grant trackage rights to CSX Transportation, Inc. (CSXT) as follows: (1) over GTW's Tappen Interlocking, at Port Huron, MI, between milepost 332.3 and milepost 334.20; (2) over St. Clair's tracks between milepost 61.14 and milepost 59.98, via the Sarnia Tunnel; and (3) over CN's tracks between milepost 61.69 and milepost 61.14, in Port Huron, between milepost 59.98 and milepost 58.90, at Sarnia, Ontario, and thence northwesterly over CN's Port Edward Spur, Sarnia, between milepost 59.20=0.0 and milepost 1.41 to a connection with CSXT's track at Sarnia, a total distance of approximately 6.3 miles.

The transaction is scheduled to be consummated on August 27, 2001. The trackage rights will allow CSXT to achieve greater operating efficiencies by allowing it to reach its lines in Sarnia.

As a condition to this exemption, any employees affected by the trackage rights will be protected by the conditions imposed in Norfolk and Western Ry. Co.-Trackage Rights-BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34083 must be filed with the Surface Transportation Board, Office of the Secretary, Case Control Unit, 1925 K Street, NW., Washington, DC 20423-0001. In addition, one copy of each pleading must be served on Natalie S. Rosenberg, Esq., CSX Transportation, Inc., 500 Water Street, Jacksonville, FL 32202.

Board decisions and notices are available on our website at www.stb.dot.gov.

Decided: August 23, 2001.
By the Board, David M. Konschnik, Director, Office of Proceedings.
Vernon A. Williams,
Secretary.

[FR Doc. 01-21947 Filed 8-29-01; 8:45 am]

BILLING CODE 4915-00-P